DEPARTMENT OF JUSTICE

[EOIR No. 149]

Executive Office for Immigration Review; Notice Extending Period To File Motions To Reopen Under the Barahona-Gomez v. Ashcroft Settlement

AGENCY: Executive Office for Immigration Review (“EOIR”), Justice.

ACTION: Notice.

SUMMARY: This notice is to inform all parties that the motion to reopen period as defined in section (II)(B)(4) of the settlement agreement in Barahona-Gomez v. Ashcroft, 243 F. Supp. 2d 1029 (N.D. Cal. 2002), was extended to March 20, 2005. The full settlement agreement can be found at 243 F. Supp. 2d 1029 (N.D. Cal. 2002), and also is reproduced on the EOIR Web site at http://www.usdoj.gov/eoir. The settlement agreement initially provided that the motion to reopen period was for eighteen (18) months from the date the Advisory Statement was published in the Federal Register. The Advisory Statement providing notice of the settlement was published in the Federal Register on March 20, 2003. See 68 FR 13727. The motion to reopen period was to close on September 20, 2004. Under section (II)(B)(4) of the settlement agreement, if any eligible class member filed a motion to reopen proceedings under the settlement agreement within six months prior to September 20, 2004, the motion to reopen period is extended for an additional 180 days. This notice acknowledges that the deadline date was extended to March 20, 2005.

DATES: The deadline for filing motions to reopen under the settlement agreement was extended to March 20, 2005.

FOR FURTHER INFORMATION CONTACT: MaryBeth Keller, General Counsel, Office of the General Counsel, Executive Office for Immigration Review, 5107 Leesburg Pike, Suite 2600, Falls Church, VA 22041, telephone (703) 305-0470.

Dated: October 15, 2004.
Kevin D. Rooney,
Director, Executive Office for Immigration Review.

[FR Doc. 04-24208 Filed 10-28-04; 8:45 am]

BILLING CODE 4410-30-M